DEPARTMENT OF ENERGY

Federal Energy Regulatory Commission

Combined Notice of Filings #1

Take notice that the Commission received the following electric rate filings:

Docket Numbers: ER18-1182-005.

Applicants: System Energy Resources, Inc.

Description: Compliance filing: SERI Compliance (ER18-1182 and EL23-11) to be effective 12/31/9998.

Filed Date: 2/21/23.

Accession Number: 20230221-5339.

Comment Date: 5 p.m. ET 3/14/23.

Docket Numbers: ER21-1502-000; ER21-1503-000.

Applicants: Maverick Solar 7, LLC, Maverick Solar 6, LLC.

Description: Notice of Non-Material Change in Status of Maverick Solar 6, LLC, et al.

Filed Date: 2/21/23.

Accession Number: 20230221-5338.

Comment Date: 5 p.m. ET 3/14/23.

Docket Numbers: ER23-491-001.

Applicants: Power Authority of the State of New York, New York Independent System Operator, Inc.

Description: Compliance filing: Power Authority of the State of New York submits tariff filing per 35: NYPA compliance filing re: FERC January 23, 2023 order on formula rate revisions to be effective 1/24/2023.

Filed Date: 2/22/23.

Accession Number: 20230222-5106.

Comment Date: 5 p.m. ET 3/15/23.

Docket Numbers: ER23-842-001.

Applicants: Big Plain Solar, LLC.

Description: Tariff Amendment: Supplement to Petition for Market-Based Rate Authorization to be effective 1/14/2023.

Filed Date: 2/22/23.

Accession Number: 20230222-5141.

Comment Date: 5 p.m. ET 3/15/23.

Docket Numbers: ER23-843-001.

Applicants: Oak Trail Solar, LLC.

Description: Tariff Amendment: Supplement to Petition for Market-Based Rate Authorization to be effective 1/14/2023.

Filed Date: 2/22/23.

Accession Number: 20230222-5143.

Comment Date: 5 p.m. ET 3/15/23.

Docket Numbers: ER23-1142-001.

Applicants: PJM Interconnection, L.L.C.

Description: Tariff Amendment: Amending ISA, Service Agreement No. 6802; Queue No. AE2-214 in ER23-1142-000 to be effective 1/20/2023.

Filed Date: 2/22/23.

Accession Number: 20230222-5157.

Comment Date: 5 p.m. ET 3/15/23.

Docket Numbers: ER23-1152-000.

Applicants: New England Power Company.

Description: § 205(d) Rate Filing: 2023-02-21 Filing of SGIA with Great River Hydro and Request for CEII Treatment to be effective 1/30/2023.

Filed Date: 2/21/23.

Accession Number: 20230221-5327.

Comment Date: 5 p.m. ET 3/14/23.

Docket Numbers: ER23-1155-000.

Applicants: PJM Interconnection, L.L.C.

Description: § 205(d) Rate Filing: Amendment to ISA, Service Agreement No. 5633; Queue No. AC2-088/AD1-136 to be effective 4/24/2023.

Filed Date: 2/22/23.

Accession Number: 20230222-5013.

Comment Date: 5 p.m. ET 3/15/23.

Docket Numbers: ER23-1156-000.

Applicants: Mid-Atlantic Interstate Transmission, LLC,PJM Interconnection, L.L.C.

Description: § 205(d) Rate Filing: Mid-Atlantic Interstate Transmission, LLC submits tariff filing per 35.13(a)(2)(iii: MAIT submits one Engineering and Construction Agreement, SA No. 6626 to be effective 4/24/2023.

Filed Date: 2/22/23.

Accession Number: 20230222-5028.

Comment Date: 5 p.m. ET 3/15/23.

Docket Numbers: ER23-1157-000.

Applicants: American Transmission Systems, Incorporated, PJM Interconnection, L.L.C.

Description: § 205(d) Rate Filing: American Transmission Systems, Incorporated submits tariff filing per 35.13(a)(2)(iii: ATSI submits two Engineering and Construction Agreements, SA Nos. 6629 and 6632 to be effective 4/24/2023.

Filed Date: 2/22/23.

Accession Number: 20230222-5032.

Comment Date: 5 p.m. ET 3/15/23.

Docket Numbers: ER23-1158-000.

Applicants: PJM Interconnection, L.L.C.

Description: § 205(d) Rate Filing: Original NSA, SA No. 6788; Queue No. AC2-136 to be effective 1/26/2023.

Filed Date: 2/22/23.

Accession Number: 20230222-5034.

Comment Date: 5 p.m. ET 3/15/23.

Docket Numbers: ER23-1159-000.

Applicants: Constellation Mystic Power, LLC.

Description: Constellation Mystic Power, LLC submits Limited Waiver Request of Certain Deadlines Requirements as listed in Sections I.B.3, II.2.A, II.2.C, II.4.A, and II.4.B in the Protocols.

Filed Date: 2/17/23.

Accession Number: 20230217-5238.

Comment Date: 5 p.m. ET 2/27/23.

Docket Numbers: ER23-1160-000.

Applicants: Upper Missouri G. & T. Electric Cooperative, Inc.

Description: § 205(d) Rate Filing: Revised Rate Scheduel FERC No. 8 (Roughrider) to be effective 4/1/2023.

Filed Date: 2/22/23.

Accession Number: 20230222-5073.

Comment Date: 5 p.m. ET 3/15/23.

Docket Numbers: ER23-1161-000.

Applicants: Pacific Gas and Electric Company.

Description: § 205(d) Rate Filing: CCSF missed Unmetered Points (WDT SA 275) to be effective 4/24/2023.

Filed Date: 2/22/23.

Accession Number: 20230222-5123.

Comment Date: 5 p.m. ET 3/15/23.

Docket Numbers: ER23-1162-000.

Applicants: Public Service Company of Colorado.

Description: § 205(d) Rate Filing: 2023-02-22 CSU Midway SS SISA & FAC 736-PSCo to be effective 2/23/2023.

Filed Date: 2/22/23.

Accession Number: 20230222-5128.

Comment Date: 5 p.m. ET 3/15/23.

Docket Numbers: ER23-1163-000.

Applicants: Public Service Company of Colorado.

Description: Tariff Amendment: PacifiCorp Motion to Withdraw NOC in ER23-533-000 to be effective 10/31/2022.

Filed Date: 2/22/23.

Accession Number: 20230222-5161.

Comment Date: 5 p.m. ET 3/15/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2023.
Debbie-Anne A. Reese,
Deputy Secretary.

[FR Doc. 2023-04111 Filed 2-27-23; 8:45 am]

BILLING CODE 6717-01-P